DEPARTMENT OF JUSTICE

Federal Bureau of Investigation

Meeting of the Compact Council for the National Crime Prevention and Privacy Compact

AGENCY: Federal Bureau of Investigation, Justice.

ACTION: Meeting notice.

SUMMARY: The purpose of this notice is to announce a meeting of the Compact Council created by the National Crime Prevention and Privacy Compact Act of 1998 (Compact). Thus far, the federal government and thirteen states are parties to the Compact which governs the exchange of criminal history records for licensing, employment, and similar purposes. The Compact also provides a legal framework for the establishment of a cooperative Federal-state system to exchange such records.

Matters for discussion are expected to include: (1.) Record Screening Requirements, (2.) National Fingerprint File (NFF)/Qualifications and Audit Criteria, (3.) Proposed Progressive Steps for Sanctions, (4.) Improvements to the Criminal History Background Process, (5.) Proposal to Improve Service to the Noncriminal Justice Customers Seeking Interstate Identification Index Information, (6.) Jurisdiction of the Compact Council, (7.) Expansion of Time Frame and Users of the Emergency Child Placement Rule, (8.) NFF Implementation Plan for Non-NFF Compact States, and (9.) Source Documentation for Policy and Compact Council Rules.

The meeting will be open to the public on a first-come first-seated basis. Any member of the public wishing to file a written statement with the Compact Council or wishing to address this session of the Compact Council should notify Ms. Cathy L. Morrison at (304)625-2736, at least 24 hours prior to the start of the session. The notification should contain the requestor's name and corporate designation, consumer affiliation, or government designation, along with a short statement describing the topic to be addressed, and the time needed for the presentation. Requestors will ordinarily be allowed up to 15 minutes to present a topic.

DATES AND TIME: The Compact Council will meet in open session from 9 a.m. until 5 p.m. on January 8-9, 2002.

ADDRESSES: The meeting will take place at the Sheraton Grand Hotel, 1230 J Street, Sacramento, California, telephone (916) 447-1700.

FOR FURTHER INFORMATION CONTACT: Inquiries may be addressed to Ms. Cathy L. Morrison, Interim Compact Officer, Compact Council Office, Module C3, 1000 Custer Hollow Road, Clarksburg, West Virginia 26306-0147, telephone (304) 625-2736, facsimile (304) 625-5388.

Dated: December 4, 2001.
Thomas E. Bush, III,
Section Chief, Programs Development Section, Federal Bureau of Investigation.

[FR Doc. 01-30536 Filed 12-10-01; 8:45 am]

BILLING CODE 4410-02-M